DEPARTMENT OF HOMELAND SECURITY

Federal Emergency Management Agency

[Docket ID FEMA-2013-0002]

Final Flood Hazard Determinations

AGENCY: Federal Emergency Management Agency, DHS.

ACTION: Final Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The effective date of February 5, 2014 which has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at www.msc.fema.gov by the effective date indicated above.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final determinations listed below for the new or modified flood hazard information for each community listed. Notification of these changes has been published in newspapers of local circulation and ninety (90) days have elapsed since that publication. The Deputy Associate Adminstrator for Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at www.msc.fema.gov.

The flood hazard determinations are made final in the watersheds and/or communities listed in the table below.

Community | Local map repository address
Montgomery County, Alabama, and Incorporated Areas
Docket No.: FEMA-B-1283
City of Montgomery | 103 North Perry Street, Montgomery, AL 36104.
Town of Pike Road | 915 Meriweather Road, Pike Road, AL 36064.
Unincorporated Areas of Montgomery County | Montgomery County Engineering Dept, 3152 Rolling Circle Road, Montgomery, AL 36111.
Jefferson County, Colorado, and Incorporated Areas
Docket No.: FEMA-B-1272
City of Arvada | Engineering Department, 8101 Ralston Road, Arvada, CO 80001.
City of Edgewater | 5845 West 25th Avenue, Edgewater, CO 80214.
City of Golden | 1445 10th Street, Golden, CO 80401.
City of Lakewood | 480 South Allison Parkway, Lakewood, CO 80226.
City of Westminster | 4800 West 92nd Avenue, Westminster, CO 80031.
City of Wheat Ridge | Planning and Development, 7500 West 92nd Avenue, Wheat Ridge, CO 80033.
Town of Morrison | Town Offices, 321 Highway 8, Morrison, CO 80465.
Unincorporated Areas of Jefferson County | Jefferson County Department of Planning and Zoning, 100 Jefferson County Parkway, Suite 3, Golden, CO 8040.
Franklin County, Florida, and Incorporated Areas
Docket No.: FEMA-B-1267
City of Apalachicola | City Hall, 1 Avenue E, Apalachicola, FL 32320.
City of Carrabelle | City Hall, 1001 Gray Avenue, Carrabelle, FL 32322,
Unincorporated Areas of Franklin County | Franklin County Planning and Building Department, 34 Forbes Street, Suite 1, Apalachicola, FL 32320.
Jefferson County, Florida, and Incorporated Areas
Docket No.: FEMA-B-1267
City of Monticello | City Hall, 245 South Mulberry Street, Monticello, FL 32344.
Unincorporated Areas of Jefferson County | Jefferson County Courthouse, 1 Courthouse Circle, Monticello, FL 32344.
Union County, Indiana, and Incorporated Areas
Docket No.: FEMA-B-1272
Town of Liberty | Union County Area Plan Commission, 6 West South Street, Liberty, IN 47353.
Unincorporated Areas of Union County | Union County Area Plan Commission, 6 West South Street, Liberty, IN 47353.
Vermillion County, Indiana, and Incorporated Areas
Docket No.: FEMA-B-1272
City of Clinton | City Hall, 259 Vine Street, Clinton, IN 47842.
Town of Cayuga | Town Hall, 301 South 1st Street, Cayuga, IN 47928.
Town of Newport | Vermillion County Area Plan Commission, 255 South Main Street, Newport, IN 47966.
Town of Perrysville | Town Hall, 130 West Main Street, Perrysville, IN 47974.
Town of Universal | Vermillion County Area Plan Commission, 255 South Main Street, Newport, IN 47966.
Unincorporated Areas of Vermillion County | Vermillion County Area Plan Commission, 255 South Main Street, Newport, IN 47966.
Plymouth County, Massachusetts (All Jurisdictions)
Docket No.: FEMA-B-1275
Town of Marion | Town House, 2 Spring Street, Marion, MA 02738.
Town of Mattapoisett | Town Hall, 16 Main Street, Mattapoisett, MA 02739.
Town of Wareham | Memorial Town Hall, 54 Marion Road, Wareham, MA 02571.
Dodge County, Wisconsin, and Incorporated Areas
Docket No.: FEMA-B-1292
City of Fox Lake | City Hall, 248 East State Street, Fox Lake, WI 53933.
Unincorporated Areas of Dodge County | Administration Building, 127 East Oak Street, Juneau, WI 53039.
Fremont County, Wyoming, and Incorporated Areas
Docket No.: FEMA-B-1307
Town of Shoshoni | Town Hall, 102 East Second Street, Shoshoni, WY 82649.
Unincorporated Areas of Fremont County | Planning Department, 450 North Second Street, Room 360, Lander, WY 82520.

(Catalog of Federal Domestic Assistance No. 97.022, “Flood Insurance.”)

Dated: December 18, 2013.
Roy E. Wright,
Deputy Associate Administrator for Mitigation, Department of Homeland Security, Federal Emergency Management Agency.

[FR Doc. 2014-00328 Filed 1-10-14; 8:45 am]

BILLING CODE 9110-12-P